DEPARTMENT OF COMMERCE

National Oceanic and Atmospheric Administration

RIN 0648-XA240

North Pacific Fishery Management Council; Public Meeting

AGENCY: National Marine Fisheries Service (NMFS), National Oceanic and Atmospheric Administration (NOAA), Commerce.

ACTION: Notice of a public meeting.

SUMMARY: The North Pacific Fishery Management Council's Scallop Plan Team will meet March 7-8, 2011 in the Council Office at the Old Federal Building.

DATES: The meeting will be held March 7, 2011, from 10:30 a.m. to 5 p.m. and March 8, 2011, from 9 a.m. to 3 p.m.

ADDRESSES: The meeting will be held at the Old Federal Building, 605 W. 4th Avenue, #205, Anchorage, AK.

Council address: North Pacific Fishery Management Council, 605 W. 4th Ave., Suite 306, Anchorage, AK 99501-2252.

FOR FURTHER INFORMATION CONTACT: Diana Stram, Council staff; telephone: (907) 271-2809.

SUPPLEMENTARY INFORMATION: Agenda: The Scallop Plan Team will review stock status of statewide scallop stocks, compile Scallop SAFE report and recommend catch specifications, and review and comment on EFH amendments for scallop.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: February 17, 2011.
Tracey L. Thompson,
Acting Director, Office of Sustainable Fisheries, National Marine Fisheries Service.

[FR Doc. 2011-3979 Filed 2-22-11; 8:45 am]

BILLING CODE 3510-22-P